DEPARTMENT OF AGRICULTURE

Animal and Plant Health Inspection Service

[Docket No. 04-019-1]

Availability of a Draft Document Pertaining to the Risks Associated With the Introduction of Soybean Rust Into the Continental United States

AGENCY: Animal and Plant Health Inspection Service, USDA.

ACTION: Notice of availability and request for comments.

SUMMARY: We are advising the public that the Animal and Plant Health Inspection Service has prepared a draft document entitled “Status of Scientific Evidence on Risks Associated with the Introduction into the Continental United States of Phakopsora pachyrhizi with Imported Soybean Grain, Seed and Meal.” We are making this document available to the public for review and comment.

DATES: We will consider all comments that we receive on or before April 12, 2004.

ADDRESSES: You may submit comments by any of the following methods:

• Postal Mail/Commercial Delivery: Please send four copies of your comment (an original and three copies) to Docket No. 04-019-1, Regulatory Analysis and Development, PPD, APHIS, Station 3C71, 4700 River Road, Unit 118, Riverdale, MD 20737-1238. Please state that your comment refers to Docket No. 04-019-1.

• E-mail: Address your comment to regulations@aphis.usda.gov. Your comment must be contained in the body of your message; do not send attached files. Please include your name and address in your message and “Docket No. 04-019-1” on the subject line.

• Agency Web Site: Go to http://www.aphis.usda.gov/ppd/rad/cominst.html for a form you can use to submit an e-mail comment through the APHIS Web site.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Arnold T. Tschanz, Senior Staff Officer, Regulatory Coordination, PPQ, APHIS, 4700 River Road, Unit 141, Riverdale, MD 20737-1236, (301) 734-5306.

SUPPLEMENTARY INFORMATION:

Background

Soybean rust is caused by two different fungal species—Phakopsora pachyrhizi Sydow and Phakopsora meibomiae (Arthur) Arthur. P. pachyrhizi is an aggressive pathogen and spreads rapidly under conducive environmental conditions. It is referred to as the Asian, Australian, or Old World rust strain. P. meibomiae is a less aggressive pathogen on soybean. It is referred to as the tropical, Latin American, or New World rust strain. Soybean rusts caused by one or both of these species have been reported in most soybean producing areas of the world, except for North America and Europe.

In light of recent outbreaks in South America of the Asian strain of soybean rust (P. pachyrhizi), U.S. soybean producers have asked APHIS to reevaluate the entry status of soybean grain, seed, and meal from countries where soybean rust is known to occur. To evaluate the risks associated with the introduction of soybean rust into the continental United States, a draft document, entitled “Status of Scientific Evidence on Risks Associated with the Introduction into the Continental United States of Phakopsora pachyrhizi with Imported Soybean Grain, Seed and Meal” (February 23, 2004), has been prepared. We are making the draft document available to the public for review and comment.

You may view the draft document on the Internet at http://www.aphis.usda.gov/ppq/ep/soybean_rust/sbr_riskevidoc2_23_04.pdf. You may request copies from the person listed under FOR FURTHER INFORMATION CONTACT. Please refer to the title of the draft document when requesting copies. Finally, the draft document is available for review in our reading room (information on the location and hours of the reading room is provided under the heading ADDRESSES at the beginning of this notice).

In addition, we are soliciting comments addressing the following questions:

1. What conditions at harvest and during cleaning, drying, storage, or transport would change the risk of introducing P. pachyrhizi with imported soybean grain, seed, and meal?

2. Is there additional specific information on industry and agricultural practices that would affect the risk of introducing the soybean rust pathogen with imported soybean grain, seed, and meal?

3. Are most soybeans that are grown in areas infested with soybean rust sprayed with fungicides? How effective is this control?

4. What other practical treatments could be used to address the risk of introducing the soybean rust pathogen in imported soybean grain, seed, and meal?

5. Is there any other information APHIS should consider in determining the risk of introducing P. pachyrhizi with imported soybean grain, seed, and meal?

We welcome all comments on the issues outlined above and encourage the submission of scientific information that supports any statements and conclusions. We will consider all comments that we receive on or before the date listed under the heading DATES at the beginning of this notice. These comments will be considered during the development of a pest risk assessment for soybean rust.

Authority: 7 U.S.C. 450 and 7701-7772; 21 U.S.C. 136 and 136a; 7 CFR 2.22, 2.80, and 371.3.

Done in Washington, DC, this 8th day of March 2004.
Kevin Shea,
Acting Administrator, Animal and Plant Health Inspection Service.

[FR Doc. 04-5628 Filed 3-11-04; 8:45 am]

BILLING CODE 3410-34-P